SECURITIES AND EXCHANGE COMMISSION

[Release No. 34-67802; File No. 4-652]

Technology and Trading Roundtable

AGENCY: Securities and Exchange Commission.

ACTION: Notice of roundtable discussion; date change.

SUMMARY: The Securities and Exchange Commission will host a one day roundtable entitled “Technology and Trading: Promoting Stability in Today's Markets” to discuss ways to promote stability in markets that rely on highly automated systems. The market technology roundtable, which was scheduled for September 14, 2012, will now be held on October 2, 2012. The roundtable at the Securities and Exchange Commission's Washington, DC headquarters is open to the public and will be webcast. As previously announced, the event will begin with a discussion on preventing errors, focusing on current best practices and practical constraints for creating, deploying and operating mission-critical systems, including those used to automatically generate and route orders, match trades, confirm transactions, and disseminate data. The afternoon session will focus on error response, with experts discussing how the market might employ independent filters, objective tests, and other real-time processes or crisis-management procedures to detect, limit, and possibly terminate erroneous market activities when they occur, thereby limiting the impact of such errors.

DATES: The roundtable discussion will take place on October 2, 2012. The Commission will accept comments regarding issues addressed at the roundtable until October 23, 2012.

FOR FURTHER INFORMATION CONTACT: Arisa Tinaves, Special Counsel, at (202) 551-5676, Division of Trading and Markets, Securities and Exchange Commission, 100 F Street NE., Washington, DC 20549-7010.

By the Commission.
Dated: September 7, 2012
Kevin M. O'Neill,
Deputy Secretary.

[FR Doc. 2012-22487 Filed 9-12-12; 8:45 am]

BILLING CODE 8011-01-P